DEPARTMENT OF ENERGY

Federal Energy Regulatory Commission

Combined Notice of Filings #2

September 24, 2010.

Take notice that the Commission received the following electric rate filings:

Docket Numbers: ER10-2924-000.

Applicants: Kleen Energy Systems, LLC.

Description: Kleen Energy Systems, LLC submits tariff filing per 35.12: Kleen Energy Systems, LLC FERC Electric Tariff, Original Volume No. 1 to be effective 9/24/2010.

Filed Date: 09/24/2010.

Accession Number: 20100924-5040.

Comment Date: 5 p.m. Eastern Time on Friday, October 15, 2010.

Docket Numbers: ER10-2925-000.

Applicants: Alabama Power Company.

Description: Alabama Power Company submits tariff filing per 35.12: Baseline Filing to be effective 9/24/2010.

Filed Date: 09/24/2010.

Accession Number: 20100924-5041.

Comment Date: 5 p.m. Eastern Time on Friday, October 15, 2010.

Docket Numbers: ER10-2926-000.

Applicants: Georgia Power Company.

Description: Georgia Power Company submits tariff filing per 35.12: Baseline Filing to be effective 9/24/2010.

Filed Date: 09/24/2010.

Accession Number: 20100924-5046.

Comment Date: 5 p.m. Eastern Time on Friday, October 15, 2010.

Docket Numbers: ER10-2927-000.

Applicants: Gulf Power Company.

Description: Gulf Power Company submits tariff filing per 35.12: Baseline Filing to be effective 9/24/2010.

Filed Date: 09/24/2010.

Accession Number: 20100924-5048.

Comment Date: 5 p.m. Eastern Time on Friday, October 15, 2010.

Docket Numbers: ER10-2928-000.

Applicants: Mississippi Power Company.

Description: Mississippi Power Company submits tariff filing per 35.12: Baseline Filing to be effective 9/24/2010.

Filed Date: 09/24/2010.

Accession Number: 20100924-5049.

Comment Date: 5 p.m. Eastern Time on Friday, October 15, 2010.

Docket Numbers: ER10-2929-000.

Applicants: Southern Power Company.

Description: Southern Power Company submits tariff filing per 35.12: Baseline Filing to be effective 9/24/2010.

Filed Date: 09/24/2010.

Accession Number: 20100924-5050.

Comment Date: 5 p.m. Eastern Time on Friday, October 15, 2010.

Docket Numbers: ER10-2930-000.

Applicants: Northern Maine Independent System Administrator, Inc.

Description: Northern Maine Independent System Administrator, Inc. submits tariff filing per 35.12: Baseline Tariff Filing to be effective 9/30/2010.

Filed Date: 09/24/2010.

Accession Number: 20100924-5066.

Comment Date: 5 p.m. Eastern Time on Friday, October 15, 2010.

Docket Numbers: ER10-2931-000.

Applicants: NRG Sterlington Power LLC.

Description: NRG Sterlington Power LLC submits tariff filing per 35.12: NRG Sterlington Power FERC Electric Tariff to be effective 9/24/2010.

Filed Date: 09/24/2010.

Accession Number: 20100924-5067.

Comment Date: 5 p.m. Eastern Time on Friday, October 15, 2010.

Docket Numbers: ER10-2932-000.

Applicants: Somerset Power LLC.

Description: Somerset Power LLC submits tariff filing per 35.12: Somerset Power FERC Electric Tariff to be effective 9/24/2010.

Filed Date: 09/24/2010.

Accession Number: 20100924-5068.

Comment Date: 5 p.m. Eastern Time on Friday, October 15, 2010.

Docket Numbers: ER10-2933-000.

Applicants: ISO New England Inc.

Description: ISO New England Inc. submits tariff filing per 35: Unsecured Credit Compliance Filing Under Docket ER10-942-000 to be effective 12/31/9998.

Filed Date: 09/24/2010.

Accession Number: 20100924-5069.

Comment Date: 5 p.m. Eastern Time on Friday, October 15, 2010.

Docket Numbers: ER10-2934-000.

Applicants: Logan Generating Company, L.P.

Description: Logan Generating Company, L.P. submits tariff filing per 35.12: Logan Generating Company, L.P. MBR Tariff to be effective 9/24/2010.

Filed Date: 09/24/2010.

Accession Number: 20100924-5086.

Comment Date: 5 p.m. Eastern Time on Friday, October 15, 2010.

Docket Numbers: ER10-2935-000.

Applicants: Texas Retail Energy, LLC.

Description: Texas Retail Energy, LLC submits tariff filing per 35.12: Market-based Rate to be effective 9/24/2010.

Filed Date: 09/24/2010.

Accession Number: 20100924-5087.

Comment Date: 5 p.m. Eastern Time on Friday, October 15, 2010.

Docket Numbers: ER10-2936-000.

Applicants: Plains End, LLC.

Description: Plains End, LLC submits tariff filing per 35.12: Plains End, LLC MBR Tariff to be effective 9/24/2010.

Filed Date: 09/24/2010.

Accession Number: 20100924-5088.

Comment Date: 5 p.m. Eastern Time on Friday, October 15, 2010.

Docket Numbers: ER10-2937-000.

Applicants: AER NY-Gen, LLC.

Description: AER NY-Gen, LLC submits tariff filing per 35.12: AER NY-Gen Baseline Filing to be effective 9/24/2010.

Filed Date: 09/24/2010.

Accession Number: 20100924-5089.

Comment Date: 5 p.m. Eastern Time on Friday, October 15, 2010.

Docket Numbers: ER10-2938-000.

Applicants: Alliance Energy Marketing, LLC.

Description: Alliance Energy Marketing, LLC submits tariff filing per 35.12: Alliance Energy Mktg Baseline Filing to be effective 9/24/2010.

Filed Date: 09/24/2010.

Accession Number: 20100924-5091.

Comment Date: 5 p.m. Eastern Time on Friday, October 15, 2010.

Docket Numbers: ER10-2939-000.

Applicants: Plains End II, LLC.

Description: Plains End II, LLC submits tariff filing per 35.12: Plains End II, LLC MBR Tariff to be effective 9/24/2010.

Filed Date: 09/24/2010.

Accession Number: 20100924-5093.

Comment Date: 5 p.m. Eastern Time on Friday, October 15, 2010.

Docket Numbers: ER10-2940-000.

Applicants: Rathdrum Power, LLC.

Description: Rathdrum Power, LLC submits tariff filing per 35.12: Rathdrum Power, LLC MBR Tariff to be effective 9/24/2010.

Filed Date: 09/24/2010.

Accession Number: 20100924-5094.

Comment Date: 5 p.m. Eastern Time on Friday, October 15, 2010.

Docket Numbers: ER10-2941-000.

Applicants: Public Service Company of Colorado.

Description: Public Service Company of Colorado submits tariff filing per 35.13(a)(2)(iii): 2010-09-24_Att-O_PSCo_SmartGrid_Tbls2-3_chngs to be effective 8/1/2010.

Filed Date: 09/24/2010.

Accession Number: 20100924-5095.

Comment Date: 5 p.m. Eastern Time on Friday, October 15, 2010.

Docket Numbers: ER10-2942-000.

Applicants: Elk River Windfarm, LLC.

Description: Elk River Windfarm, LLC submits tariff filing per 35.12: Baseline Filing of Market-Based Rate Tariff to be effective 9/24/2010.

Filed Date: 09/24/2010.

Accession Number: 20100924-5097.

Comment Date: 5 p.m. Eastern Time on Friday, October 15, 2010.

Docket Numbers: ER10-2944-000.

Applicants: Elm Creek Wind, LLC.

Description: Elm Creek Wind, LLC submits tariff filing per 35.12: Baseline Filing of Market Based Rate Tariff to be effective 9/24/2010.

Filed Date: 09/24/2010.

Accession Number: 20100924-5098.

Comment Date: 5 p.m. Eastern Time on Friday, October 15, 2010.

Docket Numbers: ER10-2945-000.

Applicants: Elm Creek Wind II LLC.

Description: Elm Creek Wind II LLC submits tariff filing per 35.12: Baseline Filing of Market-Based Rate Tariff to be effective 9/24/2010.

Filed Date: 09/24/2010.

Accession Number: 20100924-5099.

Comment Date: 5 p.m. Eastern Time on Friday, October 15, 2010.

Docket Numbers: ER10-2947-000.

Applicants: Vienna Power LLC.

Description: Vienna Power LLC submits tariff filing per 35.12: Vienna Power FERC Electric Tariff to be effective 9/24/2010.

Filed Date: 09/24/2010.

Accession Number: 20100924-5100.

Comment Date: 5 p.m. Eastern Time on Friday, October 15, 2010.

Docket Numbers: ER10-2948-000.

Applicants: AG-Energy, L.P.

Description: AG-Energy, L.P. submits the baseline filing of its FERC Electric Tariff, Ninth Revised Volume No. 1, to be effective 9/24/2010.

Filed Date: 09/24/2010.

Accession Number: 20100924-5101.

Comment Date: 5 p.m. Eastern Time on Friday, October 15, 2010.

Docket Numbers: ER10-2949-000.

Applicants: Farmers City Wind, LLC.

Description: Farmers City Wind, LLC submits its Baseline Filing of Market-Based Rate Tariff, FERC Electric Tariff, Original Volume No 1, to be effective 9/24/2010.

Filed Date: 09/24/2010.

Accession Number: 20100924-5102.

Comment Date: 5 p.m. Eastern Time on Friday, October 15, 2010.

Docket Numbers: ER10-2950-000.

Applicants: Spruance Genco, LLC.

Description: Spruance Genco, LLC submits its Market-Baes Rate Tariff, FERC Electric Tariff, Second Revised Volume No 1, to be effective 9/24/2010.

Filed Date: 09/24/2010.

Accession Number: 20100924-5103.

Comment Date: 5 p.m. Eastern Time on Friday, October 15, 2010.

Docket Numbers: ER10-2952-000.

Applicants: Flat Rock Windpower LLC.

Description: Flat Rock Windpower LLC submits tariff filing per 35.12: Baseline Filing of Market-Based Rate Tariff to be effective 9/24/2010.

Filed Date: 09/24/2010.

Accession Number: 20100924-5104.

Comment Date: 5 p.m. Eastern Time on Friday, October 15, 2010.

Docket Numbers: ER10-2953-000.

Applicants: Mystic I, LLC.

Description: Mystic I, LLC submits tariff filing per 35.12: Market-Based Rate Tariff in Compliance with Order No. 714 to be effective 9/24/2010.

Filed Date: 09/24/2010.

Accession Number: 20100924-5105.

Comment Date: 5 p.m. Eastern Time on Friday, October 15, 2010.

Docket Numbers: ER10-2955-000.

Applicants: Flat Rock Windpower II LLC.

Description: Flat Rock Windpower II LLC submits tariff filing per 35.12: Baseline Filing of Market-Based Rate Tariff to be effective 9/24/2010.

Filed Date: 09/24/2010.

Accession Number: 20100924-5106.

Comment Date: 5 p.m. Eastern Time on Friday, October 15, 2010.

Docket Numbers: ER10-2956-000.

Applicants: Flying Cloud Power Partners, LLC.

Description: Flying Cloud Power Partners, LLC submits tariff filing per 35.12: Baseline Filing of Market-Based Rate Tariff to be effective 9/24/2010.

Filed Date: 09/24/2010.

Accession Number: 20100924-5107.

Comment Date: 5 p.m. Eastern Time on Friday, October 15, 2010

Docket Numbers: ER10-2957-000.

Applicants: Hay Canyon Wind LLC

Description: Hay Canyon Wind LLC submits tariff filing per 35.12: Baseline Filing of Market-Based Rate Tariff to be effective 9/24/2010.

Filed Date: 09/24/2010

Accession Number: 20100924-5108

Comment Date: 5 p.m. Eastern Time on Friday, October 15, 2010.

Docket Numbers: ER10-2958-000.

Applicants: Mystic Development, LLC.

Description: Mystic Development, LLC submits tariff filing per 35.12: Market-Based Rate Tariff in Compliance with Order No. 714 to be effective 9/24/2010.

Filed Date: 09/24/2010.

Accession Number: 20100924-5109.

Comment Date: 5 p.m. Eastern Time on Friday, October 15, 2010.

Docket Numbers: ER10-2959-000.

Applicants: Chambers Cogeneration, Limited Partnership.

Description: Chambers Cogeneration, Limited Partnership submits tariff filing per 35.12: Chambers Cogeneration, Limited Partnership MBR Tariff to be effective 9/24/2010.

Filed Date: 09/24/2010.

Accession Number: 20100924-5111.

Comment Date: 5 p.m. Eastern Time on Friday, October 15, 2010.

Docket Numbers: ER10-2960-000.

Applicants: Astoria Generating Company, L.P.

Description: Astoria Generating Company, L.P. submits tariff filing per 35.12: Market-Based Rate Tariff in Compliance with Order No. 714 to be effective 9/24/2010.

Filed Date: 09/24/2010.

Accession Number: 20100924-5112.

Comment Date: 5 p.m. Eastern Time on Friday, October 15, 2010.

Docket Numbers: ER10-2961-000.

Applicants: Edgecombe Genco, LLC.

Description: Edgecombe Genco, LLC submits tariff filing per 35.12: Edgecombe Genco, LLC MBR Tariff to be effective 9/24/2010.

Filed Date: 09/24/2010.

Accession Number: 20100924-5114.

Comment Date: 5 p.m. Eastern Time on Friday, October 15, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-25092 Filed 10-5-10; 8:45 am]

BILLING CODE 6717-01-P